ENVIRONMENTAL PROTECTION AGENCY

[FRL-9241-6]

Science Advisory Board Staff Office; Notification of an Upcoming Meeting of the Science Advisory Board; Ecological Processes and Effects Committee Augmented for Ballast Water

AGENCY: Environmental Protection Agency (EPA).

ACTION: Notice.

SUMMARY: The Environmental Protection Agency (EPA or Agency) Science Advisory Board (SAB) Staff Office announces a public meeting of the SAB Ecological Processes and Effects Committee (EPEC). The SAB EPEC, augmented with other experts, will discuss their draft report about the effectiveness of shipboard ballast water treatment processes and ways to improve future assessments of ballast water treatment systems to minimize the impacts of invasive species in vessel ballast water discharge.

DATES: The meeting dates are Tuesday, January 25, 2011 from 8:30 a.m. to 5:30 p.m. (Eastern Time) and Wednesday, January 26, 2011 from 8:30 a.m. to 3 p.m. (Eastern Time).

ADDRESSES: The meeting will be held at The Madison Hotel, 1177 15th Street, NW., Washington, DC 20005.

FOR FURTHER INFORMATION CONTACT: Members of the public who wish to obtain further information about this meeting may contact Ms. Iris Goodman, Designated Federal Officer (DFO). Ms. Goodman may be contacted at the EPA Science Advisory Board (1400F), U.S. Environmental Protection Agency, 1200 Pennsylvania Avenue, NW., Washington, DC 20460; or via telephone/voice mail; (202) 564-2164 fax (202) 265-2098; or e-mail at Goodman.iris@gmail.com.

SUPPLEMENTARY INFORMATION: Pursuant to the Federal Advisory Committee Act, Public Law 92-463, notice is hereby given that the SAB EPEC augmented with other experts will hold a public meeting to discuss their draft report that responds to charge questions about the effectiveness and reliability of treatment technologies and systems to meet discharge standard that adequately protect waters from the risk of invasion and are protective of Clean Water Act standards. The SAB was established by 42 U.S.C. 4365 to provide independent scientific and technical advice to the Administrator on the technical basis for Agency positions and regulations. The SAB is a Federal Advisory Committee chartered under the Federal Advisory Committee Act (FACA), as amended, 5 U.S.C., App. 2. The SAB will comply with the provisions of FACA and all appropriate SAB Staff Office procedural policies.

Background: Vessel ballast water discharges are a major source of nonidigenous species introductions to marine, estuarine, and freshwater ecosystems of the United States. Ballast water discharges are regulated by EPA under authority of the Clean Water Act (CWA) and the U.S. Coast Guard under authority of the Nonindigenous Aquatic Nuisance Prevention and Control Act, as amended (NANPCA).

EPA's Office of Water (OW) has requested SAB review of technical documents and available data on the effectiveness of ballast water treatment systems and advice on improving the performance of such systems. The SAB panel previously met on July 29-30, 2010 and held public teleconferences on October 26, 2010 and November 4, 2010. Additional information about this advisory activity may be found on the SAB Web site at http://yosemite.epa.gov/sab/sabproduct.nsf/fedrgstr_activites/BW%20discharge?OpenDocument. The purpose of the meeting on January 25-26, 2011 is for the Committee to discuss their draft report.

Availability of Meeting Materials: The meeting agenda and other materials in support of the meeting will be posted on the SAB Web site at http://www.epa.gov/sab in advance of the meeting.

Procedures for Providing Public Input: Public comment for consideration by EPA's Federal Advisory Committees and Panels has a different purpose from public comment provided to EPA program offices. Therefore, the process for submitting comments to a Federal Advisory Committee is different from the process used to submit comments to an EPA Program office. Federal Advisory Committees and panels, including Scientific Advisory Committees, provide independent advice to EPA. Members of the public can submit comments for a Federal Advisory Committee to consider as it develops advice for EPA. They should send their comments directly to the Designated Federal Officer for the Relevant Advisory Committee.

Oral Statements: In general, individuals or groups requesting an oral presentation at a public meeting will be limited to five minutes per speaker. Interested parties should contact Ms. Goodman, DFO, in writing (preferably via e-mail) at the contact information noted above by January 18, 2011 to be placed on a list of public speakers for the meeting.

Written Statements: Written statements should be received in the SAB Staff Office no later than January 18, 2011 so that the information may be made available to the SAB Committee members for their consideration. Written statements should be supplied to the DFO in the following formats: One hard copy with original signature, and one electronic copy via e-mail (acceptable file format: Adobe Acrobat PDF, WordPerfect, MS Word, MS PowerPoint, or Rich Text files in IBM-PC/Windows 98/2000/XP format). Submitters are requested to provide two versions of each document submitted with and without signatures, because the SAB Staff Office does not publish documents with signatures on its Web sites.

Accessibility: For information on access or services for individuals with disabilities, please contact Ms. Goodman at the phone number or e-mail address noted above, preferably at least ten days prior to the meeting to give EPA as much time as possible to process your request.

Dated: December 14, 2010.
Anthony F. Maciorowski,
Deputy Director, EPA Science Advisory Board Staff Office.

[FR Doc. 2010-32032 Filed 12-20-10; 8:45 am]

BILLING CODE 6560-50-P